DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Export Administration (BXA).

Title: Short Supply Regulations—Petroleum Products.

Agency Form Number: None.

OMB Approval Number: 0694-0026.

Type of Request: Extension of a currently approved collection of information.

Burden: 1 hour.

Average Time Per Response: 30 to 60 minutes per response.

Number of Respondents: 1 respondents.

Needs and Uses: The Naval Petroleum Reserves Production Act (NPRPA) of 1976, 10 U.S.C. 7420 and 7430 (e), restricts the export of any petroleum product produced from crude oil derived from the Naval Petroleum Reserves (NPR). Under section 754.3(b) of the Export Administration Regulations (EAR), applications for the export of petroleum products listed in Supplement No. 1 to this part that were produced or derived from Naval Petroleum Reserves, or that became available for export as a result of an exchange for a Naval Petroleum reserves produced or derived commodity, other than crude oil, will be denied unless the President makes a finding required under the Naval Petroleum Reserves Production Act (10 U.S.C. 7430). To date, the President has not made any national interest findings that would allow exports under this statute.

Needs and Uses:

This information collection requires the submission of a license application for the export of petroleum products that are listed in Supplement No. 1 of Section 754 of the Export Administration Regulation. These petroleum products are produced or derived from crude oil or the Naval Petroleum Reserves.

Affected Public: Individuals, businesses or other for-profit institutions.

Respondent's Obligation: Required to obtain or retain benefits.

OMB Desk Officer: David Rostker.

Copies of the above information collection proposal can be obtained by calling or writing Madeleine Clayton, DOC Paperwork Clearance Officer, (202) 482-3129, Department of Commerce, Room 6086, 14th and Constitution Avenue, NW., Washington, DC 20230.

Written comments and recommendations for the proposed information collection should be sent within 30 days of publication of this notice to David Rostker, OMB Desk Officer, Room 10202, New Executive Office Building, Washington, DC 20230.

Dated: February 22, 2002.
Madeleine Clayton,
Departmental Paperwork Clearance Officer, Office of the Chief Information Officer.

[FR Doc. 02-4639 Filed 2-26-02; 8:45 am]

BILLING CODE 3510-33-P